NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection.

Description of Permit Modification Requested: The Foundation issued a permit (ACA 2018-015) to Polar Latitudes Inc. on November 2, 2017. The issued permit allows the applicant to conduct waste management activities associated with coastal camping and operating remotely piloted aircraft systems (RPAS) In the Antarctic Peninsula region.

On October 5, 2021, NSF issued a permit modification authorizing waste management activities associated with planned operations for the 2021-2022 field season. This modification included slight changes in operation. For the 2021-2022 season, Polar Latitudes plans to operate the MS SEAVENTURE, which will carry 149 passengers and 15-20 expedition staff. Polar Latitudes requested that the number of individuals permitted for coastal camping activities be increased from 30 participants to 40 participants and four expedition guides, with increased equipment brought onshore to support a larger group. Now the applicant proposes a modification to his permit to increase the number of individuals permitted for coastal camping activities to be increased from 40 to 50 participants for operator's remaining 2021-2022 season.

The Environmental Officer has reviewed the modification request and has determined that the amendment is not a material change to the permit, and it will have a less than a minor or transitory impact.

DATES: November 2, 2017-March 30, 2022.
The permit modification was issued on December 14, 2021.
Erika N. Davis,
Program Specialist, Office of Polar Programs.

[FR Doc. 2022-00444 Filed 1-11-22; 8:45 am]

BILLING CODE 7555-01-P